DEPARTMENT OF ENERGY

Federal Energy Regulatory Commission

Combined Notice of Filings #1

Take notice that the Commission received the following electric rate filings:

Docket Numbers: ER10-2794-010; ER10-2849-009; ER11-2028-010; ER12-1825-008.

Applicants: EDF Trading North America, LLC, EDF Industrial Power Services (NY), LLC, EDF Industrial Power Services (IL), LLC, EDF Industrial Power Services (CA), LLC.

Description: Second Supplement to January 8, 2013 Updated Market Power Analysis for the Southwest Region of EDF Trading North America, LLC, et al.

Filed Date: 4/18/13.

Accession Number: 20130418-5142.

Comments Due: 5 p.m. ET 5/9/13.

Docket Numbers: ER12-718-004.

Applicants: PJM Interconnection, L.L.C., New York Independent System Operator, Inc.

Description: Extension of Joint Waiver Request of PJM Interconnection, L.L.C. and New York Independent System Operator, Inc.

Filed Date: 4/23/13.

Accession Number: 20130423-5207.

Comments Due: 5 p.m. ET 4/30/13.

Docket Numbers: ER12-2627-001; ER10-2488-005; ER12-1931-002; ER10-2504-003; ER12-610-003; ER13-338-001.

Applicants: Catalina Solar, LLC, Oasis Power Partners, LLC, Pacific Wind Lessee, LLC, Shiloh Wind Project 2, LLC, Shiloh III Lessee, LLC, Shiloh IV Lessee, LLC.

Description: Second Supplement to December 31, 2012 Triennial Market Power Analysis Update of the EDF Renewable Energy Inc. Southwest Region Companies.

Filed Date: 4/15/13.

Accession Number: 20130415-5213.

Comments Due: 5 p.m. ET 5/15/13.

Docket Numbers: ER13-1069-002.

Applicants: MP2 Energy LLC.

Description: Amendment to be effective 4/24/2013.

Filed Date: 4/24/13.

Accession Number: 20130424-5001.

Comments Due: 5 p.m. ET 5/15/13.

Docket Numbers: ER13-1322-000.

Applicants: Consolidated Edison Company of New York.

Description: PASNY Standby Filing to be effective 6/25/2013.

Filed Date: 4/24/13.

Accession Number: 20130424-5000.

Comments Due: 5 p.m. ET 5/15/13.

Docket Numbers: ER13-1323-000.

Applicants: Southern California Edison Company.

Description: Small Generator Interconnection Agreement with ClearVista Energy, LLC to be effective4/25/2013.

Filed Date: 4/24/13.

Accession Number: 20130424-5002.

Comments Due: 5 p.m. ET 5/15/13.

Docket Numbers: ER13-1324-000.

Applicants: Duke Energy Carolinas, LLC.

Description: Forest City PPA-RS 330 Revision (2013) to be effective 7/2/2012.

Filed Date: 4/24/13.

Accession Number: 20130424-5015.

Comments Due: 5 p.m. ET 5/15/13.

Docket Numbers: ER13-1325-000.

Applicants: Wisconsin Public Service Corporation, Fox Energy Company LLC.

Description: Notice of Cancellation of Fox Energy MBR Tariff to be effective4/24/2013.

Filed Date: 4/24/13.

Accession Number: 20130424-5042.

Comments Due: 5 p.m. ET 5/15/13.

Docket Numbers: ER13-1326-000.

Applicants: Wisconsin Public Service Corporation.

Description: Notice of Succession to be effective 4/24/2013.

Filed Date: 4/24/13.

Accession Number: 20130424-5047.

Comments Due: 5 p.m. ET 5/15/13.

Take notice that the Commission received the following electric securities filings:

Docket Numbers: ES11-26-001.

Applicants: Entergy Louisiana, LLC.

Description: Entergy Louisiana, LLC submits Revision to Extension Request and Entergy Texas, Inc. submits Withdrawal of Extension Request.

Filed Date: 4/23/13.

Accession Number: 20130423-5199.

Comments Due: 5 p.m. ET 5/3/13.

Docket Numbers: ES12-52-001.

Applicants: MDU Resources Group, Inc.

Description: MDU Resources Group, Inc. submits request for modification of the order dated October 11, 2012.

Filed Date: 4/23/13.

Accession Number: 20130423-5208.

Comments Due: 5 p.m. ET 5/14/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2013.
Nathaniel J. Davis, Sr.,
Deputy Secretary.

[FR Doc. 2013-10369 Filed 5-1-13; 8:45 am]

BILLING CODE 6717-01-P